NATIONAL SCIENCE FOUNDATION

Advisory Committee for Computer and Information Science and Engineering; Notice of Meeting

In accordance with the Federal Advisory Committee Act (Pub. L. 92-463, as amended), the National Science Foundation (NSF) announces the following meeting:

Name and Committee Code: Advisory Committee for Computer and Information Science and Engineering (CISE) (1115).

Date and Time:

December 14, 2017; 12:30 p.m. to 5:30 p.m.

December 15, 2017; 8:30 a.m. to 12:30 p.m.

Place: National Science Foundation, 2415 Eisenhower Avenue, Suite E 3450, Alexandria, VA 22314.

Type of Meeting: Open.

Contact Person: KaJuana Mayberry, National Science Foundation, 2415 Eisenhower Avenue, Suite C 10000, Alexandria, VA 22314; Telephone: 703-292-4616.

Purpose of Meeting: To advise NSF on the impact of its policies, programs and activities on the CISE community. To provide advice to the NSF Assistant Director for CISE on issues related to long-range planning, and to form ad hoc subcommittees and working groups to carry out needed studies and tasks.

Agenda:

• Welcome and CISE updates

• Program updates for the CISE division of Information and Intelligent Systems and collaboration with the Directorate of Social, Behavioral, and Economic Sciences (SBE)

• Activities update: Computer Science (CS) Undergraduate Education

• Working group breakout sessions and report outs: Future of Work at the Human-Technology Frontier (FW-HTF)

• Closing remarks and wrap-up

Dated: November 28, 2017.
Crystal Robinson,
Committee Management Officer.

[FR Doc. 2017-25894 Filed 11-30-17; 8:45 am]

BILLING CODE 7555-01-P